DEPARTMENT OF ENERGY

Federal Energy Regulatory Commission

Combined Notice of Filings #2

Take notice that the Commission received the following electric rate filings:

Docket Numbers: ER14-2926-000.

Applicants: Southern California Edison Company.

Description: § 205(d) rate filing per 35.13(a)(2)(iii): Amended LGIA with El Segundo Energy Center II LLC to be effective 11/23/2014.

Filed Date: 9/23/14.

Accession Number: 20140923-5068.

Comments Due: 5 p.m. ET 10/14/14.

Docket Numbers: ER14-2927-000.

Applicants: Southwest Power Pool, Inc.

Description: § 205(d) rate filing per 35.13(a)(2)(iii): 1148R19 American Electric Power NITSA and NOA to be effective 8/1/2014.

Filed Date: 9/23/14.

Accession Number: 20140923-5069.

Comments Due: 5 p.m. ET 10/14/14.

Docket Numbers: ER14-2928-000.

Applicants: Arizona Public Service Company.

Description: § 205(d) rate filing per 35.13(a)(2)(iii): OATT Non-Substantive Revisions to be effective 11/23/2014.

Filed Date: 9/23/14.

Accession Number: 20140923-5080.

Comments Due: 5 p.m. ET 10/14/14.

Docket Numbers: ER14-2929-000.

Applicants: ISO New England Inc., New England Power Pool Participants Committee.

Description: § 205(d) rate filing per 35.13(a)(2)(iii): Rev. to Provision Reg. Auto Fuel Price Adjustments in App A to be effective 12/3/2014.

Filed Date: 9/23/14.

Accession Number: 20140923-5099.

Comments Due: 5 p.m. ET 10/14/14.

Docket Numbers: ER14-2930-000.

Applicants: Florida Power & Light Company.

Description: § 205(d) rate filing per 35.13(a)(2)(iii): FPL and FKEC First Amendment to FPL Rate Schedule FERC No. 322 to be effective 1/1/2013.

Filed Date: 9/23/14.

Accession Number: 20140923-5123.

Comments Due: 5 p.m. ET 10/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2014.
Nathaniel J. Davis, Sr.,
Deputy Secretary.

[FR Doc. 2014-23243 Filed 9-29-14; 8:45 am]

BILLING CODE 6717-01-P